Title 3—

The President

Proclamation 9340 of October 2, 2015

Fire Prevention Week, 2015

By the President of the United States of America

A Proclamation

Each year, fires leave tremendous hardship and devastation in their wake. They claim too many lives, destroy too many communities, and take too much of a toll on our economy—and many incidents can be avoided with simple preventive measures. During Fire Prevention Week, we pledge to take precautionary steps to stop fires before they start, and we honor the sacrifices made by our Nation's courageous first responders who risk their lives to beat back these threats.

Whether residential or wild, fires can ignite anytime and anywhere and we can all play a role in preventing them. I urge all Americans to routinely test their smoke alarms, develop and practice fire evacuation plans at work and at home, and create family emergency communication plans in order to quickly locate loved ones in the event of any emergency. Additionally, I encourage everyone to act responsibly to prevent forest fires when outdoors, and to immediately report any signs of fire to their local fire department. More ways to avoid and respond to fires can be found at www.Ready.gov.

My Administration remains committed to aiding in efforts to responsibly respond to fires wherever they occur. This year, we called on the Congress to fix the way we pay for wildfire costs so we can more appropriately invest our resources in forest restoration and resilience—making our land and infrastructure less vulnerable to fires in the first place.

Each of us can do our part to practice fire safety and to support the dedicated volunteers and professionals who risk everything to protect our homes and communities. This week, let us pay tribute to the heroes who have lost their lives fighting fires, let us stand beside all who continue to serve in our firehouses, and let us rededicate ourselves to doing everything in our power to stop tragedies before they strike.

NOW, THEREFORE, I, BARACK OBAMA, President of the United States of America, by virtue of the authority vested in me by the Constitution and the laws of the United States, do hereby proclaim October 4 through October 10, 2015, as Fire Prevention Week. On Sunday, October 4, 2015, in accordance with Public Law 107-51, the flag of the United States will be flown at half-staff at all Federal office buildings in honor of the National Fallen Firefighters Memorial Service. I call on all Americans to participate in this observance with appropriate programs and activities and by renewing their efforts to prevent fires and their tragic consequences.

IN WITNESS WHEREOF, I have hereunto set my hand this second day of October, in the year of our Lord two thousand fifteen, and of the Independence of the United States of America the two hundred and fortieth.

[FR Doc. 2015-25738

Filed 10-6-15; 11:15 am]

Billing code 3295-F6-P